FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 16, 2019.

A. Federal Reserve Bank of St. Louis (David L. Hubbard, Senior Manager) P.O. Box 442, St. Louis, Missouri 63166-2034 or electronically to Comments.applications@stls.frb.org:

1. John M. Huetsch and Mary Ellen L. Huetsch, both of Waterloo, Illinois; John C. Huetsch and Christina T. Lai, both of Baltimore, Maryland; Mark A. Huetsch and Liang Wang, both of Beijing, China; Steve C. Huetsch, Columbia, Illinois; Randall L. Huetsch and Julie Huetsch, both of Chesterfield, Missouri; and Lynne M. Duren, Winchester, Illinois; as a group acting in concert, to retain voting shares of SBW Bancshares, Inc., Waterloo, Illinois, and thereby indirectly retain shares of State Bank of Waterloo, Waterloo, Illinois.

Board of Governors of the Federal Reserve System, August 26, 2019.
Yao-Chin Chao,
Assistant Secretary of the Board.

[FR Doc. 2019-18720 Filed 8-28-19; 8:45 am]

BILLING CODE P